ENVIRONMENTAL PROTECTION AGENCY

[FRL-7582-7]

Proposed CERCLA Administrative Cost Recovery Settlement; Pellestar Site, Negaunee, MI

AGENCY: Environmental Protection Agency (EPA).

ACTION: Notice; request for public comment.

SUMMARY: In accordance with section 122(i) of the Comprehensive Environmental Response, Compensation, and Liability Act, as amended (“CERCLA”), 42 U.S.C. 9622(i), notice is hereby given of a proposed administrative settlement which includes compromise of past response costs incurred in connection with the Pellestar site in Negaunee, Michigan with the following settling parties: Carpenter Technology Corporation; Cleveland Cliffs Iron Company; General Motors Corporation; Howmet Corporation; Ispat Inland Inc.; Technology Development Corporation and its subsidiaries, including Pellet Technology Corporation; and TRW Vehicle Safety Systems, Inc. The settlement requires the settling parties to perform a removal action at the site and reimburse U.S. EPA for its costs incurred after April 1, 2003 to the Hazardous Substance Superfund. Past costs (U.S. EPA costs incurred prior to April 1, 2003) in the amount of $118,328 are being compromised in consideration of the settling parties' commitment to perform the removal and pay all costs after April 1, 2003. The settlement includes a covenant not to sue the settling parties pursuant to section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the site record repository in the Negaunee Public Library, 319 W. Case in Negaunee, Michigan, and at the U.S. EPA Record Center, Room 714, U.S. EPA, 77 West Jackson Boulevard, Chicago, Illinois.

DATES: Comments must be submitted to U.S. EPA on or before December 4, 2003.

ADDRESSES: The proposed settlement is available for public inspection at the U.S. EPA Record Center, Room 714, 77 West Jackson Boulevard, Chicago, Illinois. A copy of the proposed settlement may be obtained from U.S. EPA Record Center, Room 714, U.S. EPA, 77 West Jackson Boulevard, Chicago, Illinois or by calling tel. # (312)-353-5821. Comments should reference the Pellestar site in Negaunee, Michigan and EPA Docket No. V-W-04-C-761 and should be addressed to Mr. Jerome Kujawa, U.S. EPA Office of Regional Counsel (C-14J), 77 West Jackson Boulevard, Chicago, Illinois 60604.

FOR FURTHER INFORMATION CONTACT: Mr. Jerome Kujawa, U.S. EPA Office of Regional Counsel (C-14J) at 77 West Jackson Boulevard Chicago, IL 60604 or at tel. # (312) -886-6731.

Dated: October 22, 2003.
William E. Muno,
Director, Superfund Division, Region 5.

[FR Doc. 03-27676 Filed 11-3-03; 8:45 am]

BILLING CODE 6560-50-M